DEPARTMENT OF COMMERCE

Foreign-Trade Zones Board

Order No. 1465

Grant of Authority for Subzone Status, Eastman Kodak Company, (X-ray Film, Color Paper, Digital Media, Inkjet Paper, Entertainment Imaging, and Health Imaging), Lawrenceville, Georgia

Pursuant to its authority under the Foreign-Trade Zones Act of June 18, 1934, as amended (19 U.S.C. 81a-81u), the Foreign-Trade Zones Board (the Board) adopts the following Order:

WHEREAS, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs ports of entry;

WHEREAS, the Board's regulations (15 CFR Part 400) provide for the establishment of special-purpose subzones when existing zone facilities cannot serve the specific use involved, and when the activity results in a significant public benefit and is in the public interest;

WHEREAS, Georgia Foreign-Trade Zone, Inc., grantee of Foreign-Trade Zone 26, has made application to the Board for authority to establish special-purpose subzone status at the warehousing, processing and distribution facility (X-ray film, color paper, digital media, inkjet paper, entertainment imaging, and health imaging) of the Eastman Kodak Company, located in Lawrenceville, Georgia (FTZ Docket 47-2005, filed 9/26/2005; amended 5/15/2006);

WHEREAS, notice inviting public comment has been given in the Federal Register (70 FR 57556-57557, 10/3/2005); and,

WHEREAS, the Board adopts the findings and recommendations of the examiner's report, and finds that the requirements of the FTZ Act and the Board's regulations would be satisfied, and that approval of the application would be in the public interest;

NOW, THEREFORE, the Board hereby grants authority for subzone status for activity related to X-ray film, color paper, digital media, inkjet paper, entertainment imaging, and health imaging at the warehousing, processing and distribution facility of the Eastman Kodak Company, located in Lawrenceville, Georgia (Subzone 26J), as described in the amended application and Federal Register notice, subject to the FTZ Act and the Board's regulations, including Section 400.28, and further subject to a restriction that privileged foreign status (19 CFR Part 146.41) shall be elected:

1. On foreign merchandise that falls under HTSUS headings or subheadings 2821, 2823, all of Chapter 32 or 3901.20 or where the foreign merchandise in question is described as a “pigment, pigment preparation, masterbatch, plastic concentrate, flush color, paint dispersion, coloring preparation, or colorant.”

2. On foreign merchandise that falls under HTSUS heading 4202, with the exception of merchandise classified in HTSUS categories 4202.91.0090 and 4202.92.9060.

Signed at Washington, DC, this 14th day of July 2006.

David M. Spooner,
Assistant Secretary of Commerce for Import Administration,Alternate Chairman Foreign-Trade Zones Board.
ATTEST:
Andrew McGilvray,
Acting Executive Secretary.

[FR Doc. E6-11873 Filed 7-24-06; 8:45 am]

BILLING CODE 3510-DS-S